DEPARTMENT OF EDUCATION

Office of Safe and Drug-Free Schools; Overview Information; Grants to States to Improve Management of Drug and Violence Prevention Programs; Notice Inviting Applications for New Awards for Fiscal Year (FY) 2005

Catalog of Federal Domestic Assistance (CFDA) Number: 84.184R

Dates: Applications Available: June 13, 2005.

Deadline for Transmittal of Applications: July 22, 2005.

Deadline for Intergovernmental Review: August 22, 2005.

Eligible Applicants: State educational agencies (SEAs) or other State agencies administering the Safe and Drug-Free Schools and Communities Act (SDFSCA) State Grants program.

Estimated Available Funds: $3,000,000. Contingent upon the availability of funds and the quality of applications, we may make additional awards in FY 2006 from the list of unfunded applications from this competition.

Estimated Range of Awards: $350,000-$500,000.

Estimated Average Size of Awards: $425,000.

Estimated Number of Awards: 7.

Note: The Department is not bound by any estimates in this notice.

Project Period: Up to 36 months.

Full Text of Announcement

I. Funding Opportunity Description

Purpose of Program: This program provides Federal financial assistance to support the development, enhancement, or expansion of the capacity of States and other entities that receive SDFSCA State Grants funds to collect, analyze, and use data to improve the management of drug and violence prevention programs.

Priorities: These priorities are from the notice of final priorities and requirements for this program, published elsewhere in this issue of the Federal Register.

Absolute Priority: For FY 2005 and any subsequent year in which we make awards based on the list of unfunded applications from this competition, this priority is an absolute priority. Under 34 CFR 75.105(c)(3) we consider only applications that meet this priority.

This priority is: Developing, Enhancing, or Expanding the Capacity of States and Other Entities that Receive SDFSCA State Grants Funds to Collect, Analyze, and Use Data to Improve the Management of Drug and Violence Prevention Programs.

This priority supports projects to develop, enhance, or expand the capacity of States and other entities that receive SDFSCA State Grants program funds to collect, analyze, and use data to improve the management of drug and violence prevention programs. At a minimum, applicants must propose projects to develop, enhance, or expand the capacity of the State educational agency (SEA), the State agency administering the Governor's funding under the SDFSCA State Grants program, and local educational agencies and community-based organizations that receive SDFSCA State Grants program funding.

Specifically, projects must be designed to:

(a) Include activities designed to expand the capacity of local recipients of SDFSCA funds to use data to assess needs, establish performance measures, select appropriate interventions, monitor progress toward established performance measures, and disseminate information about youth drug use and violence to the public;

(b) Collect data that, at a minimum, meet the requirements of the Uniform Management Information and Reporting System (UMIRS) described in section 4112(c)(3) of the ESEA;

(c) Operate with the aid of a technology-based system for analyzing and interpreting school crime and violence data;

(d) Be consistent with the State's Performance-Based Data Management Initiative (PBDMI) strategy and produce data that can be transmitted to the U.S. Department of Education via the Department's Education Data Exchange Network (EDEN) project, which facilitates the transfer of information from State administrative records to the Department to satisfy reporting requirements for certain programs administered by the Department, including the SDFSCA State Grants program;

(e) Be an enhancement to, or capable of merging data with, the State's student information system if such exists or if the State does not yet have a statewide, longitudinal student data system, the project should include the capacity to merge with such a system in the future; and

(f) Include validation and verification activities at the State and sub-State recipient levels designed to ensure the accuracy of data collected and reported.

Competitive Preference Priority: For FY 2005 and any subsequent year in which we make awards based on the list of unfunded applications from this competition, this priority is a competitive preference priority. Under 34 CFR 75.105(c)(2)(i) we award up to an additional 10 points to an application, depending on the extent to which the application meets this priority.

This priority is: Use of Uniform Crime Reporting (UCR) Definitions.

The collection of incident data for projects under the absolute priority will be done in a manner consistent with the definitions and protocols developed under the Federal Bureau of Investigation's UCR program.

Program Authority: 20 U.S.C. 7131.

Applicable Regulations: (a) The Education Department General Administrative Regulations (EDGAR) in 34 CFR parts 74, 75, 77, 79, 80, 81, 82, 84, 85, 97, 98, 99, and 299.

(b) The notice of final priorities and requirements, published elsewhere in this issue of the Federal Register.

II. Award Information

Type of Award: Discretionary grants.

Estimated Available Funds: $3,000,000. Contingent upon the availability of funds and the quality of applications, we may make additional awards in FY 2006 from the list of unfunded applications from this competition.

Estimated Range of Awards: $350,000-$500,000.

Estimated Average Size of Awards: $425,000.

Estimated Number of Awards: 7.

Note: The Department is not bound by any estimates in this notice.

Project Period: Up to 36 months.

III. Eligibility Information

1. Eligible Applicants: State educational agencies (SEAs) or other State agencies administering the SDFSCA State Grants program.

2. Cost Sharing or Matching: This program does not involve cost sharing or matching.

IV. Application and Submission Information

1. Address to Request Application Package: Education Publications Center (ED Pubs), P.O. Box 1398, Jessup, MD 20794-1398. Telephone (toll free): 1-877-433-7827. FAX: (301) 470-1244. If you use a telecommunications device for the deaf (TDD), you may call (toll free): 1-877-576-7734.

You may also contact ED Pubs at its Web site: http://www.ed.gov/pubs/edpubs.html or you may contact ED Pubs at its e-mail address: edpubs@inet.ed.gov.

If you request an application from ED Pubs, be sure to identify this competition as follows: CFDA number 84.184R.

You may also download the application from the Department of Education's Web site at: http://www.ed.gov/fund/grant/apply/grantapps/index.html.

Individuals with disabilities may obtain a copy of the application package in an alternative format (e.g., Braille, large print, audiotape, or computer diskette) by contacting the program contact person listed in this section.

The public can also obtain applications directly from the program office by contacting: Maria Worthen, U.S. Department of Education, 400 Maryland Avenue, SW., FB-6, room 3E324, Washington, DC 20202-6450. Telephone: (202) 205-5632 or by e-mail: maria.worthen@ed.gov.

If you use a telecommunications device for the deaf (TDD), you may call the Federal Relay Service (FRS) at 1-800-877-8339.

2. Content and Form of Application Submission:

a. Memorandum of Understanding or Other Documentation of Participation: Applicants must include documentation in the form of a memorandum of understanding or a letter in their application that outlines project roles and responsibilities of the participants and that contains:

1. The signatures of:

a. The authorized representative(s) for the SEA, and

b. The authorized representative(s) for the State agency (or agencies) receiving the Governor's portion of SDFSCA State Grants program funding for the State.

2. Evidence that the proposal has been reviewed by, and has the approval of, the State's chief information officer (CIO) and/or chief technology officer (CTO). The CIO and/or CTO may sign the required memorandum of understanding, or may provide a letter including the required assurance.

b. Technology-Based System: Each application is required to include a proposal for a technology-based system for collecting, analyzing, and interpreting school crime and violence data. Grant funds may be used in a variety of ways to support this system, including updating an existing infrastructure, conducting basic planning, and capacity building.

c. Other Requirements: Other requirements concerning the content of an application, together with the forms you must submit, are in the application package for this program.

3. Submission Dates and Times:

Applications Available: June 13, 2005.

Deadline for Transmittal of Applications: July 22, 2005.

Applications for grants under this competition may be submitted electronically using the Electronic Grant Application System (e-Application) accessible through the Department's e-Grants system, or in paper format by mail or hand delivery. For information (including dates and times) about how to submit your application electronically, or by mail or hand delivery, please refer to section IV. 6. Other Submission Requirements in this notice.

We do not consider an application that does not comply with the deadline requirements.

Deadline for Intergovernmental Review: August 22, 2005.

4. Intergovernmental Review: This program is subject to Executive Order 12372 and the regulations in 34 CFR part 79. Information about Intergovernmental Review of Federal Programs under Executive Order 12372 is in the application package for this program.

5. Funding Restrictions: We reference additional regulations outlining funding restrictions in the Applicable Regulations section of this notice.

6. Other Submission Requirements: Applications for grants under this competition may be submitted electronically or in paper format by mail or hand delivery.

a. Electronic Submission of Applications.

If you choose to submit your application to us electronically, you must use the e-Application available through the Department's e-Grants system, accessible through the e-Grants portal page at: http://e-grants.ed.gov.

While completing your electronic application, you will be entering data online that will be saved into a database. You may not e-mail an electronic copy of a grant application to us.

Please note the following:

• Your participation in e-Application is voluntary.

• You must complete the electronic submission of your grant application by 4:30 p.m., Washington, DC time, on the application deadline date. The e-Application system will not accept an application for this competition after 4:30 p.m., Washington, DC time, on the application deadline date. Therefore, we strongly recommend that you do not wait until the application deadline date to begin the application process.

• The regular hours of operation of the e-Grants Web site are 6 a.m. Monday until 7 p.m. Wednesday; and 6 a.m. Thursday until midnight Saturday, Washington, DC time. Please note that the system is unavailable on Sundays, and between 7 p.m. on Wednesdays and 6 a.m. on Thursdays, Washington, DC time, for maintenance. Any modifications to these hours are posted on the e-Grants Web site.

• You will not receive additional point value because you submit your application in electronic format, nor will we penalize you if you submit your application in paper format.

• You must submit all documents electronically, including the Application for Federal Education Assistance (ED 424), Budget Information—Non-Construction Programs (ED 524), and all necessary assurances and certifications.

• Any narrative sections of your application should be attached as files in a .DOC (document), .RTF (rich text), or .PDF (Portable Document) format.

• Your electronic application must comply with any page limit requirements described in this notice.

• Prior to submitting your electronic application, you may wish to print a copy of it for your records.

• After you electronically submit your application, you will receive an automatic acknowledgement that will include a PR/Award number (an identifying number unique to your application).

• Within three working days after submitting your electronic application, fax a signed copy of the ED 424 to the Application Control Center after following these steps:

(1) Print ED 424 from e-Application.

(2) The applicant's Authorizing Representative must sign this form.

(3) Place the PR/Award number in the upper right hand corner of the hard-copy signature page of the ED 424.

(4) Fax the signed ED 424 to the Application Control Center at (202) 245-6272.

• We may request that you provide us original signatures on other forms at a later date.

Application Deadline Date Extension in Case of System Unavailability: If you are prevented from electronically submitting your application on the application deadline date because the e-Application system is unavailable, we will grant you an extension of one business day in order to transmit your application electronically, by mail, or by hand delivery. We will grant this extension if—

(1) You are a registered user of e-Application and you have initiated an electronic application for this competition; and

(2) (a) The e-Application system is unavailable for 60 minutes or more between the hours of 8:30 a.m. and 3:30 p.m., Washington, DC time, on the application deadline date; or

(b) The e-Application system is unavailable for any period of time between 3:30 p.m. and 4:30 p.m., Washington, DC time, on the application deadline date.

We must acknowledge and confirm these periods of unavailability before granting you an extension. To request this extension or to confirm our acknowledgement of any system unavailability, you may contact either (1) the person listed elsewhere in this notice under For Further Information Contact (see VII. Agency Contact) or (2) the e-Grants help desk at 1-888-336-8930. If the system is down and therefore the application deadline is extended, an e-mail will be sent to all registered users who have initiated an e-Application.

Extensions referred to in this section apply only to the unavailability of the Department's e-Application system. If the e-Application system is available, and, for any reason, you are unable to submit your application electronically or you do not receive an automatic acknowledgement of your submission, you may submit your application in paper format by mail or hand delivery in accordance with the instructions in this notice.

b. Submission of Paper Applications by Mail.

If you submit your application in paper format by mail (through the U.S. Postal Service or a commercial carrier), you must mail the original and two copies of your application, on or before the application deadline date, to the Department at the applicable following address:

By mail through the U.S. Postal Service: U.S. Department of Education, Application Control Center, Attention: (CFDA Number 84.184R), 400 Maryland Avenue, SW., Washington, DC 20202-4260

or

By mail through a commercial carrier: U.S. Department of Education, Application Control Center—Stop 4260, Attention: (CFDA Number 84.184R), 7100 Old Landover Road, Landover, MD 20785-1506.

Regardless of which address you use, you must show proof of mailing consisting of one of the following:

(1) A legibly dated U.S. Postal Service postmark,

(2) A legible mail receipt with the date of mailing stamped by the U.S. Postal Service,

(3) A dated shipping label, invoice, or receipt from a commercial carrier, or

(4) Any other proof of mailing acceptable to the Secretary of the U.S. Department of Education.

If you mail your application through the U.S. Postal Service, we do not accept either of the following as proof of mailing:

(1) A private metered postmark, or

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you submit your application in paper format by hand delivery, you (or a courier service) must deliver the original and two copies of your application by hand, on or before the application deadline date, to the Department at the following address: U.S. Department of Education, Application Control Center, Attention: (CFDA Number 84.184R), 550 12th Street, SW., Room 7041, Potomac Center Plaza, Washington, DC 20202-4260.

The Application Control Center accepts hand deliveries daily between 8 a.m. and 4:30 p.m., Eastern Time, except Saturdays, Sundays, and Federal holidays.

Note for Mail or Hand Delivery of Paper Applications: If you mail or hand deliver your application to the Department:

(1) You must indicate on the envelope and—if not provided by the Department—in Item 4 of the ED 424 the CFDA number—and suffix letter, if any—of the competition under which you are submitting your application.

(2) The Application Control Center will mail a grant application receipt acknowledgment to you. If you do not receive the grant application receipt acknowledgment within 15 business days from the application deadline date, you should call the U.S. Department of Education Application Control Center at (202) 245-6288.

V. Application Review Information

1. Selection Criteria: The selection criteria for this program are in the application package.

VI. Award Administration Information

1. Award Notices: If your application is successful, we notify your U.S. Representative and U.S. Senators and send you a Grant Award Notification (GAN). We may also notify you informally.

If your application is not evaluated or not selected for funding, we will notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: If funded, you are expected to submit an annual performance report, which includes reporting on expenditures, as specified by the Secretary in 34 CFR 75.720. You are also expected to collect data on the key Government Performance and Results Act (GPRA) performance measures for this program and report those data annually to the Department. At the end of your project period, you must submit a final performance report that includes financial and evaluation information, as directed by the Secretary.

4. Performance Measures: The Secretary has established the following key performance measures for assessing the effectiveness of Grants to States to Improve Management of Drug and Violence Prevention Program:

a. The proportion of local recipients of SDFSCA State Grants Program funding that are using data related to youth drug and violence to manage youth drug, alcohol, and violence prevention programs by: Incorporating these data in needs assessment processes; using the data to develop performance measures for their SDFSCA program funds; considering the data in selecting schools, and where applicable, community-based interventions for implementation; monitoring the success of interventions in reducing drug and alcohol use and violence and in building stronger communities; and sharing data with their leadership and the public;

b. The proportion of local recipients of SDFSCA State Grants Program funding that have received training about collecting, analyzing, and using data to manage and improve drug and violence prevention programs; and

(c) The proportion of local recipients of SDFSCA State Grants Program funding that submit complete responses to data collections.

These three measures constitute the Department's indicators of success for this program. Consequently, applicants for a grant under this program are advised to give careful consideration to these three measures in conceptualizing the approach and evaluation of their proposed project. If funded, applicants will be asked to collect and report data in their performance and final reports about progress toward these measures.

VII. Agency Contact

For Further Information Contact: Maria Worthen, U.S. Department of Education, 400 Maryland Avenue, SW., room 3E324, Washington, DC 20202-6450. Telephone: (202) 205-5632 or by e-mail: maria.worthen@ed.gov.

If you use a telecommunications device for the deaf (TDD), you may call the Federal Relay Service (FRS) at 1-800-877-8339.

Individuals with disabilities may obtain this document in an alternative format (e.g., Braille, large print, audiotape, or computer diskette) on request to the program contact person listed in this section.

VIII. Other Information

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: June 8, 2005.
Deborah A. Price,
Assistant Deputy Secretary for Safe and Drug-Free Schools.

[FR Doc. 05-11654 Filed 6-10-05; 8:45 am]

BILLING CODE 4000-01-P